DEPARTMENT OF TRANSPORTATION

Federal Aviation Administration

14 CFR Part 39

[Docket No. FAA-2005-21236; Directorate Identifier 2005-NM-011-AD]

RIN 2120-AA64

Airworthiness Directives; The Boeing Company Airplanes

AGENCY: Federal Aviation Administration (FAA), Department of Transportation (DOT).

ACTION: Proposed rule; withdrawal.

SUMMARY: The FAA withdraws a notice of proposed rulemaking (NPRM) that proposed a new airworthiness directive (AD) for certain The Boeing Company Model 767 airplanes equipped with General Electric Model CF6-80C2 engines. The NPRM proposed to require modifying a relay installation and associated wiring of the engine cowl anti-ice system and performing a functional test of the thrust reverser system. The NPRM also proposed to require replacing the operational program software of certain indicating/recording systems. Since we issued the NPRM, we have received new data that indicate the unsafe condition would not be adequately addressed by the proposed action. The manufacturer has issued new service information to address the unsafe condition. Consequently, we issued new rulemaking action that positively addresses the unsafe condition identified in the NPRM, and eliminates the need for the actions proposed in the NPRM. Accordingly, the NPRM is withdrawn.

DATES: As of October 23, 2013, the proposed rule, which was published in the Federal Register on May 18, 2005 (70 FR 28489), is withdrawn.

ADDRESSES: You may examine the AD docket on the Internet at http://www.regulations.gov; or in person at the Docket Management Facility between 9 a.m. and 5 p.m., Monday through Friday, except Federal holidays. The AD docket contains this AD action, the regulatory evaluation, any comments received, and other information. The street address for the Docket Office (phone: 800-647-5527) is the Document Management Facility, U.S. Department of Transportation, Docket Operations, M-30, West Building Ground Floor, Room W12-140, 1200 New Jersey Avenue SE., Washington, DC 20590.

FOR FURTHER INFORMATION CONTACT: Tung Tran, Aerospace Engineer, Propulsion Branch, ANM-140S, FAA, Seattle Aircraft Certification Office, 1601 Lind Avenue SW., Renton, WA 98057-3356; phone: 425-917-6505; fax: 425-917-6590; email: tung.tran@faa.gov.

SUPPLEMENTARY INFORMATION:

Discussion

We proposed to amend part 39 of the Federal Aviation Regulations (14 CFR part 39) with a notice of proposed rulemaking (NPRM) for a new AD for certain Model 767 series airplanes. The NPRM published in the Federal Register on May 18, 2005 (70 FR 28489). The NPRM proposed to require modifying a relay installation and associated wiring of the engine cowl anti-ice system and performing a functional test of the thrust reverser system. The NPRM also proposed to require replacing the operational program software of certain indicating/recording systems. The NPRM was prompted by numerous operator reports of failures of the lock flexshaft of the thrust reverser actuation system (TRAS) between the upper actuator and the TRAS lock. We had proposed the AD to prevent high power in-flight deployment of a thrust reverser, which could cause high roll force and consequent departure from controlled flight.

Actions Since NPRM (70 FR 28489, May 18, 2005) Was Issued

Since we issued the NPRM (70 FR 28489, May 18, 2005), we have received new data that indicate the unsafe condition would not be adequately addressed by the proposed action. Consequently, we issued a new NPRM (78 FR 3363, January 16, 2013) that positively addresses the unsafe condition identified in the NPRM (70 FR 28489, May 18, 2005) and eliminates the need for the actions proposed in that NPRM (70 FR 28489, May 18, 2005).

FAA's Conclusions

We have determined that the unsafe condition identified in the NPRM (70 FR 28489, May 18, 2005) still exists. However, the unsafe condition is addressed in the new NPRM (78 FR 3363, January 16, 2013). Accordingly, the NPRM (70 FR 28489, May 18, 2005) is withdrawn.

Withdrawal of the NPRM (70 FR 28489, May 18, 2005) does not preclude the FAA from issuing the related actions or commit the FAA to any course of action in the future.

Regulatory Impact

Since this action only withdraws the NPRM (70 FR 28489, May 18, 2005), it is neither a proposed nor a final rule and therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, we withdraw the NPRM, Docket No. FAA-2005-21236, Directorate Identifier 2005-NM-011-AD, which published in the Federal Register on May 18, 2005 (70 FR 28489).

Issued in Renton, Washington, on September 30, 2013.
Jeffrey E. Duven,
Acting Manager, Transport Airplane Directorate, Aircraft Certification Service.

[FR Doc. 2013-24797 Filed 10-22-13; 8:45 am]

BILLING CODE 4910-13-P